SUSQUEHANNA RIVER BASIN COMMISSION

Projects Approved for Consumptive Uses of Water

AGENCY: Susquehanna River Basin Commission.

ACTION: Notice.

SUMMARY: This notice lists the projects approved by rule by the Susquehanna River Basin Commission during the period set forth in DATES.

DATES: February 1-28, 2021.

ADDRESSES: Susquehanna River Basin Commission, 4423 North Front Street, Harrisburg, PA 17110-1788.

FOR FURTHER INFORMATION CONTACT: Jason E. Oyler, General Counsel and Secretary to the Commission, telephone: (717) 238-0423, ext. 1312; fax: (717) 238-2436; email: joyler@srbc.net. Regular mail inquiries may be sent to the above address.

SUPPLEMENTARY INFORMATION: This notice lists the projects, described below, receiving approval for the consumptive use of water pursuant to the Commission's approval by rule process set forth in 18 CFR 806.22(e) and 18 CFR 806.22(f) for the time period specified above:

Water Source Approval—Issued Under 18 CFR 806.22(f):

1. SWN Production Company, LLC; Pad ID: RU-75-SGL A PAD; ABR-202102001; Great Bend and New Milford Townships, Susquehanna County, Pa.; Consumptive Use of Up to 4.9990 mgd; Approval Date: February 18, 2021.

2. Seneca Resources Company, LLC; Pad ID: Gee 848W; ABR-201508005.R1; Middlebury Township, Tioga County, Pa.; Consumptive Use of Up to 4.0000 mgd; Approval Date: February 18, 2021.

3. Seneca Resources Company, LLC; Pad ID: DCNR 100 Pad C; ABR-201102007.R2; Cogan House Township, Lycoming County, Pa.; Consumptive Use of Up to 4.0000 mgd; Approval Date: February 18, 2021.

4. Chesapeake Appalachia, L.L.C.; Pad ID: VRGC; ABR-201101022.R2; Wilmot Township, Bradford County, Pa.; Consumptive Use of Up to 7.5000 mgd; Approval Date: February 18, 2021.

5. Repsol Oil & Gas USA, LLC; Pad ID: MILLER (05 056) F; ABR-201010008.R2; Warren Township, Bradford County, Pa.; Consumptive Use of Up to 6.0000 mgd; Approval Date: February 18, 2021.

6. Chesapeake Appalachia, L.L.C.; Pad ID: Walker; ABR-201101030.R2; Wilmot Township, Bradford County, Pa.; Consumptive Use of Up to 7.5000 mgd; Approval Date: February 18, 2021.

7. Chesapeake Appalachia, L.L.C.; Pad ID: Cuthbertson; ABR-201102001.R2; Wilmot Township, Bradford County, Pa.; Consumptive Use of Up to 7.5000 mgd; Approval Date: February 18, 2021.

8. Chesapeake Appalachia, L.L.C.; Pad ID: Jokah; ABR-201102005.R2; Windham Township, Wyoming County, Pa.; Consumptive Use of Up to 7.5000 mgd; Approval Date: February 18, 2021.

9. Rockdale Marcellus, LLC; Pad ID: Groff 720; ABR-201012017.R2; Canton Township, Bradford County, Pa.; Consumptive Use of Up to 4.9900 mgd; Approval Date: February 18, 2021.

10. Repsol Oil & Gas USA, LLC; Pad ID: UHOUSE (05 081) D; ABR-201102008.R2; Orwell Township, Bradford County, Pa.; Consumptive Use of Up to 6.0000 mgd; Approval Date: February 18, 2021.

11. SWN Production Company, LLC; Pad ID: TI-22 Fall Creek A—Pad; ABR-201511008.R1; Liberty Township, Tioga County, Pa.; Consumptive Use of Up to 4.9990 mgd; Approval Date: February 18, 2021.

12. SWN Production Company, LLC; Pad ID: WY 09 OTTEN PAD; ABR-201512002.R1; Forkston Township, Wyoming County, Pa.; Consumptive Use of Up to 4.9990 mgd; Approval Date: February 22, 2021.

13. SWN Production Company, LLC; Pad ID: PU-AA Gerfin Price Pad; ABR-201102022.R2; Lenox Township, Susquehanna County, Pa.; Consumptive Use of Up to 4.9990 mgd; Approval Date: February 22, 2021.

14. SWN Production Company, LLC; Pad ID: RU-74 TRETTER PAD; ABR-201601005.R2; Great Bend Township, Susquehanna County, Pa.; Consumptive Use of Up to 4.9900 mgd; Approval Date: February 22, 2021.

15. S.T.L. Resources, LLC; Pad ID: Sturgis South; ABR-202002004; Grugan and Gallagher Townships, Clinton County, Pa.; Consumptive Use of Up to 5.0000 mgd; Approval Date: February 24, 2021.

16. Chesapeake Appalachia, L.L.C.; Pad ID: Herr; ABR-201102026.R2; Sheshequin Township, Bradford County, Pa.; Consumptive Use of Up to 7.5000 mgd; Approval Date: February 24, 2021.

17. Diversified Production, LLC; Pad ID: Longhorn C-1 (WDV1); ABR-201011061.R2; Jay Township, Elk County, Pa.; Consumptive Use of Up to 3.0000 mgd; Approval Date: February 24, 2021.

18. SWN Production Company, LLC; Pad ID: Longacre Pad; ABR-201101029.R2; Jackson Township, Susquehanna County, Pa.; Consumptive Use of Up to 4.9900 mgd; Approval Date: February 24, 2021.

19. Repsol Oil & Gas USA, LLC; Pad ID: Red Tailed Hawk; ABR-201011027.R2; Covington Township, Tioga County, Pa.; Consumptive Use of Up to 6.0000 mgd; Approval Date: February 25, 2021.

20. Chesapeake Appalachia, L.L.C.; Pad ID: DJ; ABR-201101021.R2; Wysox Township, Bradford County, Pa.; Consumptive Use of Up to 7.5000 mgd; Approval Date: February 25, 2021.

21. Chesapeake Appalachia, L.L.C.; Pad ID: Corl; ABR-201102011.R2; Colley Township, Sullivan County, Pa.; Consumptive Use of Up to 7.5000 mgd; Approval Date: February 25, 2021.

22. Chesapeake Appalachia, L.L.C.; Pad ID: Harnish; ABR-201102006.R2; Sheshequin Township, Bradford County, Pa.; Consumptive Use of Up to 7.5000 mgd; Approval Date: February 25, 2021.

23. Chesapeake Appalachia, L.L.C.; Pad ID: Bustin Homestead; ABR-201101025.R2; Sheshequin Township, Bradford County, Pa.; Consumptive Use of Up to 7.5000 mgd; Approval Date: February 25, 2021.

24. Chesapeake Appalachia, L.L.C.; Pad ID: Beeman; ABR-201101028.R2; Litchfield Township, Bradford County, Pa.; Consumptive Use of Up to 7.5000 mgd; Approval Date: February 26, 2021.

25. Repsol Oil & Gas USA, LLC; Pad ID: PECK HILL FARM (05 178); ABR-201101019.R2; Windham Township, Bradford County, Pa.; Consumptive Use of Up to 6.0000 mgd; Approval Date: February 26, 2021.

26. Chief Oil & Gas, LLC; Pad ID: Garrison Drilling Pad #1; ABR-201102032.R2; Lemon Township, Wyoming County, Pa.; Consumptive Use of Up to 2.0000 mgd; Approval Date: February 26, 2021.

27. Seneca Resources Company, LLC; Pad ID: Stanley 1106; ABR-201102015.R2; Osceola Township, Tioga County, Pa.; Consumptive Use of Up to 4.0000 mgd; Approval Date: February 26, 2021.

Authority: Pub. L. 91-575, 84 Stat. 1509 et seq., 18 CFR parts 806, 807, and 808.

Dated: March 15, 2021.
Jason E. Oyler,
General Counsel and Secretary to the Commission.

[FR Doc. 2021-05610 Filed 3-17-21; 8:45 am]

BILLING CODE 7040-01-P